DEPARTMENT OF TRANSPORTATION

Federal Aviation Administration

14 CFR Part 39

[Docket No. 99-NE-35-AD; Amendment 39-12953; AD 2002-23-09]

RIN 2120-AA64

Airworthiness Directives; MT-Propeller Entwicklung GMBH Models MTV-9-B-C and MTV-3-B-C Propellers; Correction

AGENCY: Federal Aviation Administration, DOT.

ACTION: Final rule; correction.

SUMMARY: This document makes a correction to Airworthiness Directive (AD) 2002-23-09 applicable to MT-Propeller Entwicklung GMBH Models MTV-9-B-C and MTV-3-B-C propellers that was published in the Federal Register on November 25, 2002 (67 FR 70532). The AD number listed in the amendatory language of the regulatory information is incorrect. This document corrects that number. In all other respects, the original document remains the same.

EFFECTIVE DATE: December 30, 2002.

FOR FURTHER INFORMATION CONTACT: Wayne E. Gaulzetti, Aerospace Engineer, Boston Aircraft Certification Office, FAA, Engine and Propeller Directorate, 12 New England Executive Park, Burlington, MA 01803-5299; telephone (781) 238-7156, fax (781) 238-7199.

SUPPLEMENTARY INFORMATION: A final rule AD, FR Doc, 02-29354 applicable to MT-Propeller Entwicklung GMBH Models MTV-9-B-C and MTV-3-B-C propellers that was published in the Federal Register on November 25, 2002 (67 FR 70532). The following correction is needed:

§ 39.13 [Corrected]

On page 70532, in the third column, in the Amendatory Language, in the fifth paragraph, remove the AD number “2002-2-23-09” and add in its place “2002-23-09”.

Issued in Burlington, MA, on December 4, 2002.
Francis A. Favara,
Assistant Manager, Engine and Propeller Directorate, Aircraft Certification Service.

[FR Doc. 02-31174 Filed 12-10-02; 8:45 am]

BILLING CODE 4910-13-P